FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202)-523-5793 or tradeanalysis@fmc.gov.

Agreement No.: 201254-002.

Agreement Name: Sealand/CMA CGM West Coast of Central America Slot Charter Agreement.

Parties: Maersk A/S DBA Sealand and CMA CGM S.A.

Filing Party: Wayne Rohde, Cozen O'Connor.

Synopsis: The amendment revises the strings and amount of space being chartered under the Agreement; adds a new Article 5.10, and updates Article 12.

Proposed Effective Date: 2/2/2023.

Location: https://www2.fmc.gov/FMC.Agreements.Web/Public/AgreementHistory/10193.

Agreement No.: 201368-001.

Agreement Name: ONE/CMA CGM Slot Exchange Agreement.

Parties: CMA CGM S.A. and Ocean Network Express Pte. Ltd.

Filing Party: Robert Magovern, Cozen O'Connor.

Synopsis: The amendment adds Malaysia, Thailand, and Vietnam to the geographic scope of the Agreement and provides for ONE to receive space on CMA CGM's PRX and JAX service in case of slot exchange imbalance.

Proposed Effective Date: 2/4/2023.

Location: https://www2.fmc.gov/FMC.Agreements.Web/Public/AgreementHistory/49505.

Dated: December 22, 2022.
JoAnne O'Bryant,
Program Analyst, Secretary.

[FR Doc. 2022-28267 Filed 12-27-22; 8:45 am]

BILLING CODE P